DEPARTMENT OF THE INTERIOR

Bureau of Indian Affairs

[167 A2100DD/AAKC001030/A0A501010.999900]

Supplemental Notice of Intent To Revise the Osage County Oil and Gas Draft Environmental Impact Statement, Osage County, Oklahoma

AGENCY: Bureau of Indian Affairs, Interior.

ACTION: Notice.

SUMMARY: This Supplemental Notice advises the public that the Bureau of Indian Affairs (BIA) as Lead Agency will be revising the Draft Environmental Impact Statement for the Osage County Oil and Gas program. The BIA will work with cooperating agencies and others to gather additional information and work to prepare an Environmental Impact Statement (EIS). This Supplemental Notice announces an additional public scoping meeting to identify potential issues and content for inclusion in the EIS. The BIA solicits written comments and oral comments at the public meeting on the range of reasonable alternatives for implementing the proposed action and issues to be addressed in the revised Draft EIS, such as information regarding the level of oil and gas development in Osage County or possible mitigation measures for environmental and socioeconomic impacts of that development.

DATES: Written comments on the scope and implementation of the proposal must arrive by Friday, May 8, 2016. A public scoping meeting will be held at the Wah Zha Zhi Cultural Center from 3 p.m. to 6 p.m. on April 28, 2016. The date and location of the public meeting, including any changes, will be announced at least 15 days in advance through notices in the following local newspapers: Hominy News Progress, Pawhuska Journal Capital, Skiatook, and Tulsa World and will be posted on the following Internet location: http://www.bia.gov/WhoWeAre/RegionalOffices/EasternOklahoma/WeAre/Osage/OSAGEOilGasEIS/index.htm.

ADDRESSES: You may mail, email, hand deliver, or fax written comments to Ms. Jeannine Hale, BIA Eastern Oklahoma Regional Office, P.O. Box 8002, Muskogee, Oklahoma 74402-8002; fax (918) 781-4667; email: osagecountyoilandgaseis@bia.gov.

The April 28, 2016, public scoping meeting will be held at the Wah Zha Zhi Cultural Center, 1449 Main Street, Pawhuska, Oklahoma.

FOR FURTHER INFORMATION CONTACT: Ms. Jeannine Hale, Division of Environmental and Cultural Resources, BIA Eastern Oklahoma Regional Office, P.O. Box 8002, Muskogee, Oklahoma 74402-8002, (918) 781-4660.

SUPPLEMENTARY INFORMATION: The BIA previously released a programmatic Osage County Oil and Gas DEIS in November 2015. After the public comment period, the BIA determined that the Osage DEIS should be revised in order to address comments received and take into consideration additional information. This Supplemental Notice advises interested parties that the proposed Federal action(s) is the BIA approval of leases and permits for oil and gas mining activities located in the Osage Mineral Estate. The Osage Mineral Estate is held in trust, and the BIA approves oil and gas leases, applications for permits to drill, and other site-specific permit applications under the authority of the 1906 Osage Allotment Act, as amended and 25 CFR part 226.

The BIA, under delegation of the Secretary of the Interior, is responsible for administering the development of oil and gas resources in Osage County for the benefit of the Osage. The Federal actions, including approvals of leases and issuance of permits, are needed for the BIA to fulfill a portion of its trust responsibility to the Osage and to facilitate the development of the mineral estate. The BIA may use the EIS to support a decision under the National Environmental Policy Act.

Directions for Submitting Public Comments: Please include your name, return address, and the caption “Osage County Oil and Gas Environmental Impact Statement” on the first page of any written comments you submit. You may also submit comments at the public scoping meeting.

Public Comment Availability: Written comments, including names and addresses of respondents, will be available for public review at the BIA, 813 Grandview, Pawhuska, Oklahoma, during regular business hours, 8 a.m. to 4:30 p.m., Monday through Friday, except holidays. Before including your address, telephone number, email address, or other personal identifying information in your comment, you should be aware that your entire comment—including your personal identifying information— may be made publicly available at any time. While you can ask us in your comment to withhold your personal identifying information from public review, we cannot guarantee that we will be able to do so.

Authority: This notice is published in accordance with Section 1503.1 of the Council on Environmental Quality regulations (40 CFR part 1500 et seq.) and the Department of the Interior Regulations (43 CFR part 46) implementing the procedural requirements of the National Environmental Policy Act, as amended (42 U.S.C. 4321 et seq.), and in accordance with the authority delegated to the Assistant Secretary—Indian Affairs in Part 209 of the Department Manual.

Dated: April 5, 2016.
Michael S. Black,
Director, Bureau of Indian Affairs.

[FR Doc. 2016-08260 Filed 4-8-16; 8:45 am]

BILLING CODE 4337-15-P